DEPARTMENT OF HEALTH AND HUMAN SERVICES

Centers for Disease Control and Prevention

Government-Owned Inventions; Availability for Licensing

AGENCY: Centers for Disease Control and Prevention, Technology Transfer Office, Department of Health and Human Services

ACTION: Notice of availability.

ADDRESSES: Send all inquiries concerning this notice in writing to Beverly Ashton, Centers for Disease Control and Prevention, National Immunization Program, 1600 Clifton Road, Mailstop E62, Atlanta, Georgia 30333.

SUMMARY: The National Immunization Program (NIP), Centers for Disease Control and Prevention (CDC), has developed a software component that can examine an individual's immunization history and determine which specific immunizations the individual needs as of any specified date, according to the recommendations of the Advisory Committee on Immunization Practices. The component is written in the C++ programming language and is exposed as an ActiveX object.

The NIP would like to make this component available to developers of immunization registry software and other applications that have immunization management functions. NIP would like to establish a mechanism which would allow a software vendor or vendors to provide technical maintenance and support for the component. One possibility would be for NIP to post a list of interested vendors (including their addresses and telephone numbers) on the NIP/Registry website (www.CDC.gov/NIP/Registry). Developers who want to implement the component in their systems would then contract with the vendor of their choice, independently, to obtain technical support.

Vendor support would consist of:

Assistance with the installation of the component.

Assistance with day-to-day operational problems.

Correction of software bugs.

Update of parameterized rules to implement new ACIP recommendations.

Enhancements of the component's functionality.

NIP will make the component available to the vendor free of charge, and the vendor will marshal the resources necessary to provide the support to developers, under contracts negotiated between the vendor and the individual developer. CDC will not be a party to these contracts.

Vendors should describe their experience and available resources in providing this kind of software support. Vendors interested in this opportunity with NIP should write to: Centers for Disease Control and Prevention, Attn: Beverly Ashton, National Immunization Program, Mail Stop E-62, 1600 Clifton Road, Atlanta, GA 30333.

Joseph R. Carter,
Associate Director for Management and Operations, Centers for Disease Control and Prevention.

[FR Doc. 00-19073 Filed 7-27-00; 8:45 am]

BILLING CODE 4163-18-P